DEPARTMENT OF ENERGY

Federal Energy Regulatory Commission

[Docket No. EL02-56-000]

Public Utility District No. 1 of Snohomish County, Washington, Complainant, v. Morgan Stanley Capital Group, Inc., Respondent; Notice of Complaint

February 13, 2002.

Take notice that on February 11, 2002, Public Utility District No. 1 of Snohomish County, Washington (Snohomish) filed a complaint with the Federal Energy Regulatory Commission (Commission) requesting that the Commission mitigate unjust and unreasonable terms and conditions contained in the long-term power supply contract between Snohomish and Morgan Stanley Capital Group (Seller) which was executed in January 2001 for service commencing on April 1, 2001.

Copies of the complaint were served on Seller.

Snohomish has requested privileged treatment of certain information in the complaint, and has filed privileged and public copies of the complaint, a request for privileged treatment, and a protective agreement.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before March 4, 2002. Protests will be considered by the Commission in determining the appropriate action to be taken, but will not serve to make protestants parties to the proceeding. Any person wishing to become a party must file a motion to intervene. Answers to the complaint shall also be due on or before March 4, 2002. Copies of this filing are on file with the Commission and are available for public inspection. This filing may also be viewed on the Web at http://www.ferc.gov using the “RIMS” link, select “Docket#” and follow the instructions (call 202-208-2222 for assistance). Comments, protests, interventions and answers may be filed electronically via the Internet in lieu of paper. See, 18 CFR 385.2001(a)(1)(iii) and the instructions on the Commission's Web site under the “e-Filing” link.

Linwood A. Watson, Jr.,
Deputy Secretary.

[FR Doc. 02-4035 Filed 2-19-02; 8:45 am]

BILLING CODE 6717-01-P